INTERNATIONAL TRADE COMMISSION

[USITC SE-00-024]

Sunshine Act Meeting

Agency Holding the Meeting: International Trade Commission.

Time and Date: June 9, 2000 at 2:30 p.m.

Place: Room 101, 500 E Street SW, Washington, DC 20436, Telephone: (202) 205-2000.

Status: Open to the public.

Matters to be Considered: 1. Agenda for future meeting: None.

2. Minutes.

3. Ratification List.

4. Inv. No. 731-TA-847 and 850 (Final) (Seamless Carbon and Alloy Steel Standard, Line, and Pressure Pipe and Tube from Japan and South Africa)—briefing and vote. (The Commission will transmit its determination to the Secretary of Commerce on June 16, 2000.).

5. Outstanding action jackets: None.

In accordance with Commission policy, subject matter listed above, not disposed of at the scheduled meeting, may be carried over to the agenda of the following meeting.

Issued: May 25, 2000.
By order of the Commission.
Donna R. Koehnke,
Secretary.

[FR Doc. 00-13804 Filed 5-30-00; 10:18 am]

BILLING CODE 7020-02-U